DEPARTMENT OF JUSTICE

Notice of Lodging of Consent Decree Under the Comprehensive Environmental Response, Compensation, and Liability Act

Notice is hereby given that on December 22, 2009, a proposed Consent Decree in United States v. Ausimont Industries, Inc., et al., Civil Action No. 1:09-cv-12169, was filed with the United States District Court for the District of Massachusetts, Eastern Division.

In this action, the United States sought injunctive relief for remedial cleanup, recovery of response costs, and damages for injuries to natural resources against 49 defendants (“Settling Defendants), relating to the Sutton Brook Disposal Area Superfund Site in Tewksbury, Massachusetts (“Site”), pursuant to Sections 106 and 107 of the Comprehensive Environmental Response, Compensation, and Liability Act (“CERCLA”), 42 U.S.C. 9606 and 9607(a). The Commonwealth of Massachusetts (“Commonwealth”) has asserted parallel claims under CERCLA and related State provisions, and is a co-plaintiff to the proposed Consent Decree.

To resolve the United States' injunctive relief claim under Section 106 of CERCLA, 42 U.S.C. 9606, the proposed Consent Decree requires 20 Settling Defendants to perform the Remedial Design/Remedial Action set forth in the Record of Decision for the Site (“Performing Settling Defendants”). This remedial cleanup includes construction of a multi-layer, impermeable cap over the area of the Site that was a former landfill; construction of a groundwater pump and treatment system to collect and treat contaminated groundwater; long-term monitoring; and implementation of restrictions on future uses of the Site. The total estimated cost of the remedial cleanup for the Site is approximately $30 million ($29.98 million).

To resolve the United States' claims for cost recovery and damages for injuries to natural resources under Section 107 of CERCLA, 42 U.S.C. 9607, the Consent Decree requires Settling Defendants to reimburse the United States for all future response costs, and costs incurred to oversee the remedy, as set forth in the Consent Decree. Settling Defendants will also reimburse the Commonwealth for all future response costs, costs incurred to oversee the remedy, and $512,000 in past response costs. In addition, Settling Defendants will pay $825,000 to the U.S. Department of Interior, which includes $62,752 in assessment costs, to be used to fund restoration projects in connection with the Site for natural resources under the Federal and/or joint Federal and State trusteeship. Settling Defendants will also pay $825,000 to the Commonwealth, which includes $44,270 in assessment costs, to be used to fund restoration projects in connection with the Site for natural resources under the Commonwealth's trusteeship.

Beside the 20 Performing Settling Defendants, the proposed Consent Decree includes six Cashout Settling Defendants and 23 De Minimis Settling Defendants, each of whom will pay its respective allocated share of responsibility for the Site contamination, including standard premiums, into a trust to be used by the Performing Settling Defendants to pay for the remedial cleanup, response costs, and damages for injuries to natural resources. In exchange for the payments to be made and work to be performed, the Settling Defendants will receive contribution protection and a covenant not to sue under Sections 106 and 107 of CERCLA for remedial cleanup, response costs, and natural resources damages relating to the Site, subject to certain reservation of rights.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to either: United States v. Ausimont Industries, Inc., et al., Civil Action No. 1:09-cv-12169, D.J. Ref. 90-11-2-07854/1 and 90-11-2-07854/2. The Consent Decree may be examined at the Office of the United States Attorney for the District of Massachusetts, One Courthouse Way, Suite 9200, Boston, Massachusetts, and at U.S. EPA Region 1, 5 Post Office Square—Suite 100, Boston, Massachusetts. During the public comment period, the Consent Decrees may also be examined on the following Department of Justice Web site, http://www.usdoj.gov/enrd/Consent_Decrees.html. A copy of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $112.75 (25 cents per page reproduction cost), or, if by e-mail or fax, forward a check in the applicable amount to the Consent Decree Library at the stated address. In requesting a copy exclusive of exhibits and signature pages, please enclose a check, payable to the U.S. Treasury, in the amount of $18 (25 cents per page reproduction cost).

Maureen Katz,
Assistant Chief, Environmental Enforcement Section, Environment and Natural Resources Division.

[FR Doc. E9-30960 Filed 12-29-09; 8:45 am]

BILLING CODE 4410-15-P